DEPARTMENT OF HOMELAND SECURITY

Bureau of Customs and Border Protection

Notice of Retraction of Revocation Notice

AGENCY: Bureau of Customs and Border Protection, U.S. Department of Homeland Security.

ACTION: General notice.

SUMMARY: The below-identified Customs broker license was erroneously included in a list of revoked Customs broker licenses. See 69 FR 17214, dated April 1, 2004.

Name | License # | Port name
Talmage L. Dillon | 06956 | New Orleans.
Customs broker license No. 06956 remains valid.

Dated: May 25, 2005.
Jayson P. Ahern,
Assistant Commissioner, Office of Field Operations.

[FR Doc. 05-10918 Filed 6-1-05; 8:45 am]

BILLING CODE 4820-02-P